FEDERAL MARITIME COMMISSION

Sunshine Act Meeting

AGENCY: Federal Maritime Commission.

Time and Date: October 21, 2015; 10 a.m.

Place: 800 N. Capitol Street NW., First Floor Hearing Room, Washington, DC.

Status: The first portion of the meeting will be held in Open Session; the second in Closed Session.

Matters To Be Considered

Open Session

1. Docket No. 13-05: Amendments to Regulations Governing Ocean Transportation Intermediary Licensing and Financial Responsibility Requirements, and General Duties

2. Briefing on FMC Information Technology Modernization

3. Briefing on FMC Continuity of Operations Plan

4. Briefing on U.S.-Japan Maritime Discussions

Closed Session

1. Service Contracts and Non-Vessel-Operating Common Carrier Service Arrangements—Regulatory Review

Contact Person for More Information: Karen V. Gregory, Secretary, (202) 523 5725.

Karen V. Gregory,
Secretary.

[FR Doc. 2015-26474 Filed 10-14-15; 4:15 pm]

BILLING CODE 6731-AA-P